DEPARTMENT OF HEALTH AND HUMAN SERVICES

National Institutes of Health

Request for Information (RFI): Input on Report From Council of Councils on Assessing the Safety of Relocating At-Risk Chimpanzees

AGENCY: National Institutes of Health, HHS.

ACTION: Notice.

SUMMARY: The National Institutes of Health (NIH) is informing the research community and other interested parties that it received from the NIH Council of Councils the report of its Working Group on Assessing the Safety of Relocating At-Risk Chimpanzees, and the agency will consider recommendations contained in the report (see https://dpcpsi.nih.gov/sites/default/files/CoC_May_2018_WG_Report_508.pdf). The NIH invites public comment in response to this Request for Information (RFI).

DATES: This Request for Information is open for public comment for a period of 60 days. Comments must be submitted by August 10, 2018 to ensure consideration.

ADDRESSES: Comments must be submitted electronically using the web-based form available at https://grants.nih.gov/grants/rfi/rfi.cfm?ID=72.

FOR FURTHER INFORMATION CONTACT: Please direct all inquiries to the Division of Program Coordination, Planning, and Strategic Initiatives at dpcpsi@od.nih.gov.

SUPPLEMENTARY INFORMATION:

Background: In 2015, the NIH decided that all NIH-owned chimpanzees residing outside of the federal chimpanzee sanctuary system were eligible for retirement and relocation to the sanctuary. This decision was based on several converging efforts:

• A 2011 report by the Institute of Medicine (IOM) that stated the use of chimpanzees in research has become “largely unnecessary” and recommended approaches to minimize their use in federally funded research.

• A 2013 report from an earlier NIH Council of Councils working group that made recommendations to the NIH on implementing the IOM principles and guidelines and placement of NIH-owned or -supported chimpanzees.

• A 2015 announcement by the U.S. Fish and Wildlife Service, designating all captive chimpanzees as endangered, thereby conferring specific protections under the Endangered Species Act.

• Observations by the NIH of a significantly reduced demand for chimpanzees for research.

A priority for the NIH, relocation of the chimpanzees to the sanctuary proceeds according to a retirement plan prepared by the NIH. The retirement plan, as well as the November 2015 NIH announcement, state that chimpanzees will be retired to the sanctuary once space becomes available and on a timescale that considers the health, welfare, and social grouping of individual chimpanzees. However, many of these chimpanzees have age-related ailments that can increase their risk of severe adverse events during the transfer and relocation process.

On January 26, 2018, the NIH Council of Councils established a Working Group on Assessing the Safety of Relocating At-Risk Chimpanzees to provide advice and recommendations to the Council on factors to be considered by attending veterinarian staff when deciding whether to relocate NIH-owned or -supported at-risk chimpanzees to the federal sanctuary system. On May 18, 2018, the working group submitted the report to the NIH Council of Councils, which subsequently approved the report and transmitted it to the NIH for consideration.

Information Requested: The NIH is seeking input on the recommendations (see https://dpcpsi.nih.gov/sites/default/files/CoC_May_2018_WG_Report_508.pdf) from the biomedical research community, including foundations, scientific societies, government and regulatory agencies, industry, NIH grantee institutions, and from other members of the public. Responders are free to address any or all recommendations.

How to Submit a Response: All comments must be submitted electronically to https://grants.nih.gov/grants/rfi/rfi.cfm?ID=72. Comments must pertain to the category for which feedback is requested, conform to the word limit indicated, and be submitted by the specified due date. You will see an electronic confirmation acknowledging receipt of your response but will not receive individualized feedback on any suggestions.

Response to this RFI is voluntary. No basis for claims against the U.S. Government shall arise as a result of a response to this RFI or from the Government's use of such information. Please note that the Government will not pay for response preparation or for the use of any information contained in the response. The NIH may make all responses available, including name of the responder, without notifying the respondent. In addition, the NIH may prepare and make available a summary of all input received which is responsive to this RFI.

Dated: June 4, 2018.
Lawrence A. Tabak,
Deputy Director, National Institutes of Health.

[FR Doc. 2018-12458 Filed 6-8-18; 8:45 am]

BILLING CODE 4140-01-P